DEPARTMENT OF TRANSPORTATION

National Highway Traffic Safety Administration

[Docket No. NHTSA-2017-0023; Notice 2]

Porsche Cars North America, Inc., Grant of Petition for Decision of Inconsequential Noncompliance

AGENCY: National Highway Traffic Safety Administration (NHTSA), Department of Transportation (DOT).

ACTION: Grant of petition.

SUMMARY: Porsche Cars North America, Inc. (PCNA), on behalf of Dr. Ing. h.c.F. Porsche AG (PAG), has determined that certain model year (MY) 2017 Porsche 911 Turbo and Porsche 911 Turbo Cabriolet motor vehicles do not fully comply with Federal Motor Vehicle Safety Standard (FMVSS) No. 101, Controls and Displays, and FMVSS No. 135, Light Vehicle Brake Systems. PCNA filed a noncompliance report dated March 16, 2017. PCNA also petitioned NHTSA on March 17, 2017, for a decision that the subject noncompliance is inconsequential as it relates to motor vehicle safety.

ADDRESSES: For further information on this decision contact Stu Seigel, Office of Vehicle Safety Compliance, the National Highway Traffic Safety Administration (NHTSA), telephone (202) 366-5287, facsimile (202) 366-3081.

SUPPLEMENTARY INFORMATION:

I. Overview: Porsche Cars North America, Inc. (PCNA), on behalf of Dr. Ing. h.c.F. Porsche AG (PAG), has determined that certain model year (MY) 2017 Porsche 911 Turbo and Porsche 911 Turbo Cabriolet motor vehicles do not fully comply with paragraph S5.2.1 of FMVSS No. 101, Controls and Displays, and paragraph S5.5.5 of FMVSS No. 135, Light Vehicle Brake Systems. PCNA filed a noncompliance report dated March 16, 2017, pursuant to 49 CFR part 573, Defect and Noncompliance Responsibility and Reports. PCNA petitioned NHTSA on March 17, 2017, pursuant to 49 U.S.C. 30118(d) and 30120(h) and 49 CFR part 556, for an exemption from the notification and remedy requirements of 49 U.S.C. Chapter 301 on the basis that this noncompliance is inconsequential as it relates to motor vehicle safety.

Notice of receipt of the petition was published with a 30-day public comment period, on April 11, 2017, in the Federal Register (82 FR 17507). No comments were received. To view the petition and all supporting documents log onto the Federal Docket Management System (FDMS) Web site at: https://www.regulations.gov/. Then follow the online search instructions to locate docket number “NHTSA-2017-0023.”

II. Vehicles Involved: Approximately 17 MY 2017 Porsche 911 Turbo and Porsche 911 Turbo Cabriolet motor vehicles, manufactured between May 31, 2016, and January 11, 2017, are potentially involved.

III. Noncompliance: PCNA explains that the noncompliance is that the telltales used for Brake Warning, Park Brake Warning and Antilock Braking System (ABS) failure warnings are displayed using International Organization for Standardization (ISO) symbols instead of the words “Brake” and “ABS” as required by paragraph S5.2.1 of FMVSS No. 101 and paragraph S5.5.5 of FMVSS No. 135.

IV. Rule Text: Paragraph S5.2.1 of FMVSS No. 101 requires in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2 . . .

Paragraphs S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (one-eighth inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake.” . . .

(d) If separate indicators are used for one or more of the conditions described in S5.5.1(a) through S5.5.1(g), the indicators shall display the following wording: . . .

(3) If a separate indicator is provided for the condition specified in S5.5.1(b), the letters and background shall be of contrasting colors, one of which is yellow. The indicator shall be labeled with the words “Antilock” or “Anti-lock” or “ABS”; or “Brake Proportioning,” in accordance with Table 2 of Standard No. 101 . . .

V. Summary of PCNA's Petition: PCNA described the subject noncompliance and stated its belief that the noncompliance is inconsequential as it relates to motor vehicle safety.

In support of its petition, PCNA submitted the following reasoning:

(a) The Owner's Manual for the subject vehicles is written for multiple markets and depicts both the “BRAKE” and ISO symbols telltales for brake warning, as well as the “ABS” and ISO symbol telltales for ABS lamp.

(b) The ISO symbol for ABS lamp also contains the word “ABS”, which is additionally embedded in a circle with two vertical lines. In case of an illumination of the ISO symbol, the malfunction display, located in the instrument cluster will display an additional warning message that states “ABS/PSM failure. Drive with caution” and an initial warning chime will sound. Porsche believes that in the event the ISO ABS telltale is displayed, the driver would recognize a possible ABS malfunction.

(c) In the event the brake fluid level in the master cylinder reservoir is less than the recommended safe level, the ISO symbol will illuminate, and the multifunction display will display a warning message that states “Brake fluid level. Park vehicle safely” and an initial warning chime will sound. The message will stay continuously displayed, provided there are no other serious message(s), which would result in the messages being displayed in an alternating manner. If the brake fluid is still low on subsequent ignition key cycles the message will be redisplayed in the message center.

(d) The parking brake in the subject vehicles are set by pushing a button labelled “P”, which is located on the left hand side of the steering wheel. Once the parking brake is set, a red light indicator located in the button will illuminate. Thus, the application of the parking brake is in full view of the operator. When the parking brake is engaged it illuminates the ISO symbol and, should the operator proceed with the parking brake engaged, the parking brake releases automatically if the following prerequisites are fulfilled:

1. Engine is running;

2. Driver's door is closed;

3. Driver's seat belt is fastened.

If one of these prerequisites is not fulfilled, the electric parking brake is not automatically released when the operator attempts to drive off. A message appears on the multifunction display, and the red light indicator in the button as well as the ISO symbol for the brake will flash.

(e) In all cases the ISO symbols for the brake and ABS telltale illuminate and remain illuminated in accordance with the requirements of FMVSS No. 135.

(f) Porsche is unaware of any field or owner complaints regarding the issue of non-compliant telltales.

PCNA concluded by expressing the belief that the subject noncompliance is inconsequential as it relates to motor vehicle safety, and that its petition to be exempted from providing notification of the noncompliance, as required by 49 U.S.C. 30118, and a remedy for the noncompliance, as required by 49 U.S.C. 30120, should be granted.

NHTSA'S Decision

NHTSA's Analysis: NHTSA has reviewed PCNA's analyses that the subject noncompliances are inconsequential to motor vehicle safety. Specifically, the use of an ISO telltale indicating both low fluid and parking brake actuation instead of the word “BRAKE,” as required by paragraph S5.5.5(b) of FMVSS No. 135 and paragraph S5.2.1 of FMVSS No. 101, and an ISO symbol for the ABS telltale, instead of the words “Antilock” or Anti-lock” or “ABS” as required by paragraph S5.5.5(d)(3) of FMVSS No. 135 and paragraph S5.2.1 of FMVSS No. 101, poses little if any risk to motor vehicle safety. As discussed below, NHTSA believes that the inadvertent use of the ISO symbols for these specific vehicles is inconsequential primarily because multiple sources of information are simultaneously activated to properly warn the driver of the conditions, and because drivers have, over time, become increasingly familiar with ISO symbol meaning as many ISO symbols have been used on U.S.-certified vehicles in conjunction with the required text.

1. Per paragraph S5.5.2 of FMVSS No. 135, all indicators are activated as a check function when the ignition (start) switch is turned to the “on” (“run”) position when the engine is not running or when the ignition (start) switch is in a positon between “on” (“run”) and “start.” As such, each time the driver activates the starting system on these affected vehicles, the ISO brake warning symbol and the ISO ABS Malfunction symbol will illuminate. If the driver is not familiar with the ISO symbol meaning, the owner's manual can be referenced, which will explain the relationship between the symbol and its function. NHTSA also believes that as some vehicles have, over time, incorporated both the required telltale labeling with adjacent supplementary ISO symbols, the ISO symbols have evolved to become increasingly recognizable and understandable to drivers. NHTSA further believes drivers recognize that a telltale illuminated in red or amber, as is the case here, even if unlabeled, represents a malfunction which needs to be remedied.

2. PCNA uses an allowed common indicator for the condition of low brake fluid and activation of the parking brake. The symbol is red with a contrasting background color as required in the standard. In a low-brake-fluid situation, in addition to the ISO symbol illumination, the operator is provided multiple sources of information of the existence of a problem. A multifunction display will display a warning message that is clear and definitive stating “Brake fluid level. Park vehicle safely”. In the affected vehicles, the malfunction display is contained in the instrument panel in plain view of the driver. In addition, an initial warning chime will sound. The message will be continuously displayed unless another serious condition is displayed in which case the messages would be alternating. Low fluid is redisplayed on subsequent ignition cycles.

The combination of the red brake ISO symbol, a detailed message on the instrument cluster for low fluid, and a warning chime provides the operator ample notification of a brake condition requiring action.

3. The parking brake on the subject vehicles is electronically activated by pushing a button labelled “P”, which is located on the left side of the steering wheel. When the parking brake is engaged, the dual-function common ISO symbol will illuminate in red with additional visual feedback to the operator from illumination of a red indicator light located in the button. If the operator proceeds with the parking brake engaged, the brake will release automatically if (1) the engine is running, (2) the driver's door is closed, and (3) the driver's seat belt is fastened. These conditions are met most of the time, so the likelihood of driving with the parking brake engaged is limited. However, if one these three prerequisite conditions is not fulfilled, the electric parking brake will not automatically release when the operator attempts to drive off. Under this circumstance, the red ISO symbol will flash, which makes it highly noticeable to the driver, the red parking brake button will remain illuminated, and a message will appear on the multifunction display. These three redundant visual indicators to the operator provide ample feedback that the parking brake remains activated. The agency also believes that the operator in many cases would be aware of an activated parking brake due to reduced vehicle drivability from brake drag.

4. When an ABS malfunction occurs, the amber ISO symbol with the word “ABS” embedded in it illuminates. Although this is the correct telltale word as specified in the standard, the lettering height is less than the required 3.2mm. There are two additional redundancies that provide notification to the operator of an ABS situation: The statement “ABS/PSM failure. Drive with caution” is displayed on the multifunction instrument cluster and an initial warning chime will sound. An operator is very unlikely to overlook these three separate notifications, and remedial action can be taken.

5. Lastly, the presence of ISO symbols instead of wording on the instrument panel has no effect on the functionality and performance of the parking brake system, the service brake system, and the ABS system.

NHTSA believes that the subject noncompliances on these specific vehicles—use of the ISO symbol for low brake fluid and parking brake actuation and ABS malfunction instead of the required words—are inconsequential to motor vehicle safety, primarily because illumination of each ISO symbol is accompanied by multiple redundant operator notifications including messages on an instrument cluster display and audible chimes. The manufacturer has stated and we agree, that the ISO symbol usage for these specific vehicles is unlikely to lead to any misunderstanding since other sources of correct information beyond the provided telltales are available.

NHTSA's Decision: In consideration of the foregoing, NHTSA finds that PCNA has met its burden of persuasion that the FMVSS Nos. 101 and 135 noncompliances are inconsequential as they relate to motor vehicle safety. Accordingly, PCNA's petition is hereby granted and PCNA is consequently exempted from the obligation to provide notification of, and a remedy for, the subject noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that PCNA no longer controlled at the time it determined that the noncompliance existed. However, the granting of this petition does not relieve vehicle distributors and dealers of the prohibitions on the sale, offer for sale, or introduction or delivery into interstate commerce of the noncompliant vehicles under their control after PCNA notified them that the subject noncompliance existed.

Authority: 49 U.S.C. 30118, 30120: Delegations of authority at 49 CFR 1.95 and 501.8.

Jeffrey M. Giuseppe,
Director, Office of Vehicle Safety Compliance.

[FR Doc. 2017-23208 Filed 10-24-17; 8:45 am]

BILLING CODE 4910-59-P